DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of July 12, 2010 through July 16, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected workers in public agencies and a certification issued regarding eligibility to apply for worker adjustment assistance, each of the group eligibility requirements of Section 222(b) of the Act must be met.

(1) a significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
72,581 | Freightcar America, Roanoke Division, Leased Workers Express Professional, etc | Roanoke, VA | October 13, 2008.
72,853 | Stutzman Plating Inc., Leased Workers of Snelling Personnel Services | Los Angeles, CA | November 11, 2008.
73,308 | Hoffmaster Food Service, D/B/A Brooklace, Hoffmaster Group, Inc | West Haven, CT | January 15, 2009.
73,412 | Alcan Cable | Roseburg, OR | February 2, 2009.
73,644 | Cinram Manufacturing, LLC, Cinram International, Leased Workers From Onesource Staffing Solutions | Olyphant, PA | March 4, 2009.
73,916 | Catawba Sox LLC, Formerly known as Catawba Sox, Inc | Newton, NC | April 13, 2009.
73,924 | Amsted Rail Company, Inc., Subsidiary of Amsted, Leased Workers from Kelly Services and Account Temps | Granite City, IL | April 14, 2009.
74,122 | Markovitz Enterprises, Inc., Flowline Division | New Castle, PA | May 19, 2009.
74,184 | Innovative Surgical Products, ISSAL Medical Company, Leased Workers from Manpower | Tustin, CA | May 21, 2009.
74,207 | Wendy Fashion, Inc. | New York, NY | May 18, 2009.
74,219 | Cinram Distribution, LLC, Cinram International, Leased Workers from Ambassador Personnel, etc | LaVergne, TN | June 9, 2009

The following certifications have been issued. The requirements of Section 222(a)(2)(B) (shift in production or services) of the Trade Act have been met.

TA-W No. | Subject firm | Location | Impact date
72,715 | Bogner of America, Inc., Willy Bogner GMBH and Company | Newport, VT | October 28, 2008.
72,910 | Carl Zeiss IMT Corporation, Leased Workers of Award Staffing, Sysdyne Corp., Office Team, Nycor, etc | Maple Grove, MN | November 18, 2008.
72,962 | American Axle and Manufacturing | Oxford, MI | November 3, 2008.
72,976 | Deutsche Bank Services New Jersey, Inc., Finance Division | Jersey City, NJ | November 27, 2008.
73,317A | Sappi Fine Paper N.A., a subsidiary of Sappi Ltd, Research and Development Group, including Alternative Solutions, Manpower, Adecco | Westbrook, ME | January 20, 2009.
73,482 | Provisional, Office Team, Volt and Aerotek, Molina Healthcare, Medical Affairs-Credentialing Group | Spokane, WA | January 29, 2009.
73,539 | Georgia-Pacific Consumer Products LP, Georgia-Pacific, LLC, Leased Workers from Encadria Staffing Solutions | Green Bay, WI | February 16, 2009.
73,932 | Amdocs BCS, Inc., BC&S Division, Amdocs, Inc | El Dorado Hills, CA | April 8, 2009.
73,956 | Siemens IT Solutions and Services, Inc., Siemens Corp., Leased Workers Native Staffing, Indotronix and Connexion | Mason, OH | April 17, 2009.
73,966 | Nortel Networks, CVAS Test Organization | Research Triangle Park, NC | April 19, 2009.
73,970 | CareFusion 2200, Inc., Leased Workers from Adecco, Inc. and Snelling | Riverside, CA | April 16, 2009.
74,010 | General Electric Control Products, Fabricated Parts Group | Morrison, IL | April 26, 2009.
74,010A | General Electric Control Products, Motor Control Switch Group | Morrison, IL | April 26, 2009.
74,044 | Simport Corporation, Les Plastique Simport LTEE | Fairfax, VT | April 15, 2009.
74,055 | Harman International Industries, Inc., Shared Services Unit, Leased Workers from Aerotek, Accountants, etc | Novi, MI | May 5, 2009.
74,072 | Allegiance Industries, Working on Site at Trinity North American Freight Car | Cartersville, GA | May 2, 2009.
74,189 | Agilent Technologies, Inc., Leased Workers from Volt Workforce Solutions, ABM Janitorial Services, etc | Liberty Lake, WA | June 2, 2009.
74,229 | DP/DHL, DHL Information Services (Americas) | Allentown, PA | August 11, 2008.
74,230 | DP/DHL, DHL Information Services (Americas) | Riverside, CA | August 11, 2008.
74,232 | DP/DHL, DHL Information Services (Americas) | Wilmington, OH | August 11, 2008.
74,233 | DP/DHL, DHL Information Services (Americas) | Plantation, FL | August 11, 2008.
74,234 | DP/DHL, DHL Information Services (Americas) | Houston, TX | August 11, 2008.
74,236 | DP/DHL, DHL Information Services (Americas) | Renton, WA | August 11, 2008.
74,242 | Steris Corporation | Erie, PA | June 20, 2010.
74,242A | Steris Corporation, Staffing Solutions, Express, CDI, Belcan and Amotec, Working on Site Steris | Erie, PA | June 14, 2009.
74,329 | Portage Electric Products, Inc | North Canton, OH | June 23, 2009.

The following certifications have been issued. The requirements of Section 222(c) (supplier to a firm whose workers are certified eligible to apply for TAA) of the Trade Act have been met.

TA-W No. | Subject firm | Location | Impact date
72,795 | FreightCar America, Inc., Administrative Office | Johnstown, PA | November 6, 2008.
73,213 | Johnson Controls-Hoover Universal, Inc., Automotive Experience, Leased Workers Trans Advantage & Express Employment | Livermore, CA | January 4, 2009.
73,363 | Republic Engineered Products, Inc., Massillon Cold Finished Plant | Massillon, OH | January 21, 2009.
73,363A | Republic Engineered Products, Inc., Central Machine/Fabrication Facility | Massillon, OH | January 21, 2009.
73,465 | Techma U.S.A., Inc., Leased Workers from Kelly Temporary Services | Gretna, VA | February 3, 2009.
73,680 | Hirschmann Automation and Control, A Subsidiary of Belden, Inc | Chambersburg, PA | March 1, 2009.
73,791 | Burlington Manufacturing Services, A Division of Burlington Technologies | Burlington, NC | March 17, 2009.
73,791A | Se7en, A Division of Burlington Technologies | Gibsonville, NC | March 17, 2009.
73,805 | Henkel Corporation, Electronics Adhesives Division, Leased Workers Aerotek Professional | Billerica, MA | March 23, 2009.
73,859 | Watkins Shepard Trucking, Inc., Including on-site Independent Contractors | Missoula, MT | March 23, 2009.
73,861 | Automatic Feed Company, Leased Workers from Manpower | Napoleon, OH | March 22, 2009.
73,908 | Quality Enhancement Services, LLC, Leased Workers of Cornerstone Staffing Solutions | Fremont, CA | April 12, 2009.

Negative Determinations For Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
74,212 | Appeal-Democrat Inc., Division of Freedom Newspapers, Accounting Department | Marysville, CA
74,304 | Robin Manufacturing, USA, Inc | Hudson, WI

The investigation revealed that the criteria under paragraphs (a)(2)(A) (increased imports) and (a)(2)(B) (shift in production or services to a foreign country) of section 222 have not been met.

TA-W No. | Subject firm | Location | Impact date
72,172 | Cessna Aircraft Company | Wichita, KS
72,269 | Thermal Product Solutions, SPX Corporation, Leased Workers from Kelly Services | New Columbia, PA
72,627 | Millwork Distributors, Inc. | Oshkosh, WI
72,673 | Weather Shield Manufacturing, Inc., Corporate Office | Medford, WI
72,677 | GE Oil and Gas Operations, LLC, Application Engineering Group | Oshkosh, WI
72,678 | Sand Dollar Drilling, LP | San Angelo, TX
72,747 | Patterson UTI | San Angelo, TX
72,796 | Bar Processing Corporation, Flat Rock Metal, Inc | Hammond, IN
72,833 | GEO Specialty Chemicals | Deer Park, TX
72,852 | General Motors Company, FKA General Motors Corp., Spring Hill Assembly Plant | Spring Hill, TN
72,930 | Kik Custom Products, Inc., Kik Aerosol Socal, LLC, City of Industry Plant, Leased Workers Adecco Services | City of Industry, CA
73,008 | Nortels Networks, LTD, CDMA Core Development, Carrier Networks Organization | Richardson, TX
73,142 | General Electric Aviation, Division of General Electric Corporation | Albuquerque, NM
73,172 | Rusnak/Pasadena | Pasadena, CA
73,180 | Spacelabs Healthcare, OSI Systems, Inc., Research and Development | Issaquah, WA
73,210 | MetLife | Moosic, PA
73,210A | MetLife | Clarks Summit, PA
73,265 | HSBC Finance Corporation, Consumer & Mortgage Lending, Beneficial Division, HSBC North America Holdings | Southern Pines, NC
73,282 | NCR Corporation | Dayton, OH
73,305 | Reddog Industries, Inc | Erie, PA
73,377 | Toppan PhotoMasks, Inc | Kokomo, IN
73,715 | Axiant, LLC | Huntersville, NC
73,737 | Cullman Casting Corporation, North Vernon Industry Corporation | Cullman, AL
73,819 | KGP Telecommunications, Inc | South Bend, IN
73,823 | Demag Cranes & Components Corporation | Cleveland, OH
73,921 | Coaches! 101 (PAC) | Jersey City, NJ
74,045 | Buell Motorcycle Company, LLC | East Troy, WI
74,063 | TRG Insurance Solutions, LLC | Beckley, WV
74,177 | B/E Aerospace, Inc., Consumable Management Division | Roanoke, TX
74,228 | Coty Inc., FKA La Salle Laboratories, Division of Del Laboratories, Inc | Little Falls, NY

Determinations Terminating Investigations of Petitions for Worker Adjustment Assistance

After notice of the petitions was published in the Federal Register and on the Department's Web site, as required by Section 221 of the Act (19 U.S.C. 2271), the Department initiated investigations of these petitions.

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
73,522 | Nortel Networks, LTD | Richardson, TX. |
73,686 | MWH Americas, Inc., Silver City Office, Freeport-McMoran Tyrone Mining, LLC | Tyrone, NM. |

The following determinations terminating investigations were issued because the petitioning groups of workers are covered by active certifications. Consequently, further investigation in these cases would serve no purpose since the petitioning group of workers cannot be covered by more than one certification at a time.

TA-W No. | Subject firm | Location | Impact date
74,295 | Diversco Integrated Services, WorldColor Division, Diversco Integrated Services | Dyersburg, TN. |

I hereby certify that the aforementioned determinations were issued during the period of July 12, 2010 through July 16, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: July 20, 2010.
Michael W. Jaffe,
Certifying Officer, Division of Trade Adjustment Assistance.

[FR Doc. 2010-18832 Filed 7-30-10; 8:45 am]

BILLING CODE 4510-FN-P